DEPARTMENT OF COMMERCE

International Trade Administration

[A-570-008]

Calcium Hypochlorite From the People's Republic of China: Final Determination of Sales at Less Than Fair Value

AGENCY: Enforcement and Compliance, International Trade Administration, Department of Commerce.

SUMMARY: The Department of Commerce (the “Department”) determines that calcium hypochlorite from the People's Republic of China (“PRC”) is being, or is likely to be, sold in the United States at less than fair value (“LTFV”), as provided in section 735 of the Tariff Act of 1930, as amended (“the Act”). This investigation's final dumping margin is in the “Final Determination Margins” section infra.

DATES: Effective Date: December 15, 2014.

FOR FURTHER INFORMATION CONTACT: Emeka Chukwudebe, AD/CVD Operations, Office V, Enforcement and Compliance, International Trade Administration, Department of Commerce, 14th Street and Constitution Avenue NW., Washington, DC 20230; telephone: (202) 482-0219.

SUPPLEMENTARY INFORMATION:

Background

On July 25, 2014, the Department published in the Federal Register its Preliminary Determination ¹ of sales at LTFV and postponement of the final determination in the antidumping duty investigation of calcium hypochlorite from the PRC.² We invited interested parties to comment on our Preliminary Determination. We received no comments. The Department conducted this investigation in accordance with section 731 of the Act.

¹ See Calcium Hypochlorite From the People's Republic of China: Preliminary Determination of Sales at Less Than Fair Value and Postponement of Final Determination, 79 FR 43393 (July 25, 2014) (“Preliminary Determination”).

² See id.

Period of Investigation

The period of investigation (“POI”) is April 1, 2013, through September 30, 2013. This period corresponds to the two most recent fiscal quarters prior to the month of the filing of the petition, which was December 2013.³

³ See 19 CFR 351.204(b)(1).

Scope Comments

In accordance with the preamble to the Department's regulations, and as noted in the Initiation, we set aside a period of time for parties to raise issues regarding product coverage, and encouraged all parties to submit comments within 20 calendar days of publication of the Initiation.⁴ We received no comments concerning the scope of this investigation.

⁴ See Antidumping Duties; Countervailing Duties, 62 FR 27296, 27323 (May 19, 1997); see also Calcium Hypochlorite From the People's Republic of China: Initiation of Countervailing Duty Investigation, 79 FR 2417 (January 14, 2014) (“Initiation”).

Scope of the Investigation

The product covered by this investigation is calcium hypochlorite, regardless of form (e.g., powder, tablet (compressed), crystalline (granular), or in liquid solution), whether or not blended with other materials, containing at least 10% available chlorine measured by actual weight. The scope also includes bleaching powder and hemibasic calcium hypochlorite.

Calcium hypochlorite has the general chemical formulation Ca(OCl)2, but may also be sold in a more dilute form as bleaching powder with the chemical formulation, Ca(OCl)2.CaCl2.Ca(OH)2.2H2O or hemibasic calcium hypochlorite with the chemical formula of 2Ca(OCl)2.Ca(OH)2 or Ca(OCl)2.0.5Ca(OH)2. Calcium hypochlorite has a Chemical Abstract Service (“CAS”) registry number of 7778-54-3, and a U.S. Environmental Protection Agency (“EPA) Pesticide Code (“PC”) Number of 014701. The subject calcium hypochlorite has an International Maritime Dangerous Goods (“IMDG”) code of Class 5.1 UN 1748, 2880, or 2208 or Class 5.1/8 UN 3485, 3486, or 3487.

Calcium hypochlorite is currently classifiable under the subheading 2828.10.0000 of the Harmonized Tariff Schedule of the United States (“HTSUS”). The subheading covers commercial calcium hypochlorite and other calcium hypochlorite. When tableted or blended with other materials, calcium hypochlorite may be entered under other tariff classifications, such as 3808.94.5000 and 3808.99.9500, which cover disinfectants and similar products. While the HTSUS subheadings, the CAS registry number, the U.S. EPA PC number, and the IMDG codes are provided for convenience and customs purposes, the written description of the scope of this investigation is dispositive.

Separate Rate

In the Preliminary Determination, we determined that none of the exporters subject to this investigation demonstrated their eligibility for a separate rate and as such are part of the PRC-wide entity.⁵ No party commented on this determination. As a result, for this final determination, we are continuing to treat these exporters as part of the PRC-wide entity and subject to the PRC-wide rate.

⁵ See Preliminary Determination at 79 FR 43394.

PRC-Wide Entity

In the Preliminary Determination, the Department assigned to the PRC-wide entity a rate of 210.52 percent based upon adverse facts available (“AFA”).⁶ Given that the Department did not receive any comments from interested parties, for this final determination, the Department continues to assign an AFA rate of 210.52 percent to the PRC-wide entity, which includes China Petrochemical International (Wuhan) Co., Ltd., Tianjin JinBin International Trade Co., Ltd., and Wuhan Rui Sunny Chemical Co., Ltd.⁷

⁶ See Preliminary Determination and accompanying Preliminary Decision Memorandum at 11-12.

⁷ See id.

Combination Rates

In the Initiation Notice, the Department stated that it would calculate combination rates for the respondents that are eligible for a separate rate in this investigation.⁸ Policy Bulletin 05.1 sets forth this practice.⁹ However, for the final determination, we continue to find that all parties subject to this investigation are part of the PRC-wide entity, to which we do not assign a separate combination rate.¹⁰

⁸ See Calcium Hypochlorite From the People's Republic of China: Initiation of Antidumping Duty Investigation, 79 FR 2410, 2414 (January 14, 2014) (“Initiation Notice”).

⁹ See Enforcement and Compliance Policy Bulletin No. 05.1 “Separate-Rates Practice and Application of Combination Rates in Antidumping Investigations involving Non-Market Economy Countries,” (April 5, 2005) (“Policy Bulletin 05.1”), available on the Department's Web site at http://enforcement.trade.gov/policy/bull05-1.pdf.

¹⁰ Id.

Final Determination Margins

The final weighted-average antidumping duty margin percentage is as follows:

Exporter | Weighted-Average margin (%)
PRC-Wide Entity | 210.52

Disclosure

Normally, the Department discloses to interested parties the calculations performed within five days after the date of publication of the notice of final determination in the Federal Register, in accordance with 19 CFR 351.224(b). However, because there are no changes to our Preliminary Determination, and because we continue to apply AFA to each of the mandatory respondents in this investigation, in accordance with section 776 of the Act, there are no final calculations to disclose.

Continuation of Suspension of Liquidation

In accordance with section 735(c)(l)(B) of the Act, the Department will instruct U.S. Customs and Border Protection (“CBP”) to continue to suspend liquidation of all appropriate entries of calcium hypochlorite from the PRC, as described in the “Scope of the Investigation” section, which were entered, or withdrawn from warehouse, for consumption on or after July 25, 2014, the date of publication of the Preliminary Determination in the Federal Register. Further, pursuant to 19 CFR 351.205(d), the Department will instruct CBP to require a cash deposit ¹¹ equal to the estimated amount by which the normal value exceeds the U.S. price, adjusted where appropriate for export subsidies and estimated domestic subsidy pass-through,¹² as follows: (1) The rates for China Petrochemical International (Wuhan) Co., Ltd., Tianjin JinBin International Trade Co., Ltd., and Wuhan Rui Sunny Chemical Co., Ltd. will be the PRC-wide rate we have determined in this final determination; (2) if the exporter is not a firm identified in this investigation but the producer is, the rate will be the rate established for the producer of calcium hypochlorite from the PRC; (3) the rate for all other producers or exporters will be 210.52 percent, as discussed in the “PRC-Wide” section, above. In this LTFV investigation, with regard to PRC-wide entity, export subsidies constitute 9.62 percent ¹³ of the final calculated countervailing duty rate in the concurrent countervailing duty investigation, and, thus, we will offset the PRC-wide rate of 210.52 percent by the countervailing duty rate attributable to export subsidies (i.e., 9.62 percent) to calculate the cash deposit rate for this LTFV investigation. These instructions suspending liquidation will remain in effect until further notice.

¹¹ See Modification of Regulations Regarding the Practice of Accepting Bonds During the Provisional Measures Period in Antidumping and Countervailing Duty Investigations, 76 FR 61042 (October 3, 2011).

¹² See sections 772(c)(1)(C) and 777A(f) of the Act, respectively. Unlike in administrative reviews, the Department calculates the adjustment for export subsidies in investigations not in the margin calculation program, but in the cash deposit instructions issued to CBP. See Notice of Final Determination of Sales at Less Than Fair Value, and Negative Determination of Critical Circumstances: Certain Lined Paper Products from India, 71 FR 45012 (August 8, 2006), and accompanying Issues and Decision Memorandum at Comment 1.

¹³ The following subsidy programs in the final determination of the concurrent countervailing duty investigation are export subsidies: Discounted Loans for Export-Oriented Enterprises (1.06%), Export Credits from China's Export-Import Bank (1.06%), Export Credit Insurance from China Export and Credit Insurance Corporation (Sinosure) (1.06%), Foreign Trade Development Fund (0.55%), Famous Brands Program (0.55%), Provision of Shipping for LTAR (5.34%). See Calcium Hypochlorite From the People's Republic of China: Final Affirmative Countervailing Duty Determination, dated concurrently with this notice, and accompanying Issues and Decision Memorandum at 7.

U.S. International Trade Commission (“ITC”) Notification

In accordance with section 735(d) of the Act, we notified the ITC of our final affirmative determination of sales at LTFV. As the Department's final determination in this proceeding is affirmative, in accordance with section 735(b)(2) of the Act, the ITC will determine, no later than 45 days after our final determination, whether the domestic industry in the United States is materially injured, or threatened with material injury, by reason of imports of calcium hypochlorite from the PRC, or sales (or the likelihood of sales) for importation of calcium hypochlorite from the PRC. If the ITC determines that such injury does not exist, we will terminate this proceeding and we will refund or cancel all securities posted. However, if the ITC determines that such injury does exist, the Department will issue an antidumping duty order directing CBP to assess, upon further instruction by the Department, antidumping duties on all imports of calcium hypochlorite from the PRC entered, or withdrawn from warehouse, for consumption on or after the effective date of the suspension of liquidation.

Return or Destruction of Proprietary Information

This notice also serves as a reminder to parties subject to administrative protective order (“APO”) of their responsibility concerning the destruction of proprietary information disclosed under APO in accordance with 19 CFR 351.305(a)(3). We hereby request, timely written notification of return or destruction of APO materials or conversion to judicial protective order. Failure to comply with the regulations and the terms of an APO is a sanctionable violation.

This determination is issued and published in accordance with sections 735(d) and 777(i)(l) of the Act.

Dated: December 8, 2014.
Paul Piquado,
Assistant Secretary for Enforcement and Compliance.

[FR Doc. 2014-29370 Filed 12-12-14; 8:45 am]

BILLING CODE 3510-DS-P